DEPARTMENT OF HEALTH AND HUMAN SERVICES

Centers for Disease Control and Prevention

[30Day-37-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Jail STD Prevalence Monitoring System, OMB No. 0920-0499—Revision—National Center for HIV, STD and Tuberculosis (NCHSTP), Centers for Disease Control and Prevention (CDC).

CDC is requesting from the Office of Management and Budget (OMB) a 3-year approval for the standardized record layout for the Jail STD Prevalence Monitoring System. The Jail STD Prevalence Monitoring System consists of test data compiled for persons entering corrections facilities. The standard data elements were created in response to the need to systematically assess morbidity in persons entering correction facilities, who are at high risk for STDs or sexually transmitted diseases and who often do not seek medical care in mainstream medical settings. Use of these standard data elements will improve surveillance of STDs by allowing for systematic assessment of a high-risk population, taking advantage of already computerized data.

States that compile data from corrections facilities are encouraged to participate in the system. In most places, STD test results for persons in corrections facilities are computerized by the laboratory or by the health department. The burden of compiling data in the standardized format involves running a computer program to convert the data to the specified format. This involves an initial investment of time by a programmer but afterwards involves only running the program once a quarter (average of 3 hours per quarter). Therefore, the respondent burden is approximately 12 hours per year.

If a respondent does not have computerized test results for persons in corrections facilities, and must enter the data, the burden of data-entry is approximately 1.5 minute per record. On an average a respondent will enter approximately 1250 records per quarter, which will result in a total burden of 1875 minutes or 31 hours per quarter.

During the next 3 years, CDC expects approximately 20 project areas per year to participate. Approximately 15 will have already computerized data for a burden of 180 hours (15x12 hrs) per year, and five respondents will have to enter data into a computerized database which will result in a burden of 620 additional hours (5x124 hrs) per year. The total estimated annualized burden is 800 hours.

Respondents | Number of respondents | Number of responses per respondent | Average burden per response
State/local health departments with computerized data | 15 | 4 | 3
State/local health departments without computerized data | 5 | 4 | 31

Dated: April 1, 2004.
Alvin Hall,
Director, Management Analysis and Services Office, Centers for Disease Control and Prevention.

[FR Doc. 04-8185 Filed 4-9-04; 8:45 am]

BILLING CODE 4163-18-P